CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning a new information collection for an examination of the Points of Light Foundation Strengthen Communities AmeriCorps*VISTA Initiative (POLF-VISTA Initiative). The Corporation proposes to conduct data collection request around volunteer recruitment and management activities from volunteer centers participating in the POLF-VISTA Initiative, as well as the community organizations that utilize the services of these volunteer centers.

Copies of the information collection request can be obtained by contacting the office listed below in the ADDRESSES section of this notice.

DATES: Written comments must be submitted to the office listed in the ADDRESSES section by April 29, 2005.

ADDRESSES: You may submit comments, identified by the title of the information collection activity, by any of the following methods:

(1) By mail sent to: Corporation for National and Community Service, Attn: Kelly Arey, Department of Research and Policy Development, Rm 8100, 1201 New York Avenue, NW., Washington, DC 20525.

(2) By hand delivery or by courier to the Corporation's mailroom, Room 6010, at the mail address given in paragraph (1) above, between 9 a.m. and 4 p.m., Monday through Friday, except Federal holidays.

(3) By fax to: 202-565-2785, Attn: Kelly Arey, Research Analyst.

(4) Electronically through the Corporation's e-mail address system: karey@cns.gov.

(5) Individuals who use a telecommunications device for the deaf (TTY-TDD) may call (202) 565-2799 between 8:30 a.m. and 5 p.m. Eastern time, Monday through Friday.

FOR FURTHER INFORMATION CONTACT: Kelly Arey, (202) 606-5000 ext. 197, or by e-mail at karey@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information to those who are to respond, including through the use of appropriate automated, electronic, mechanical, or other technological collection techniques or other forms of information technology, e.g. permitting electronic submissions of responses.

Background

The Corporation is strongly committed to evaluating the effectiveness of its programs. Through this effort, the Corporation will survey the volunteer centers that serve as placement sites for the POLF-VISTA Initiative and their community partners that receive services as part of this initiative in order to assess the experiences of stakeholders and examine how they implement volunteer recruitment and management best practices.

Type of Review: New collection.

Agency: Corporation for National and Community Service.

Title: Examination of Points of Light Foundation Strengthening Communities AmeriCorps*VISTA Initiative.

OMB Number: None.

Agency Number: None.

Affected Public: Non-profit organizations.

Total Respondents: 109.

Frequency: Once.

Average Time Per Response: 10 minutes.

Estimated Total Burden Hours: 1090 minutes.

Total Burden Cost (capital/startup): None.

Total Burden Cost (operating/maintenance): None.

Comments submitted in response to this notice will be summarized and/or included in the request for Office of Management and Budget approval of the information collection request; they will also become a matter of public record.

Dated: February 22, 2005.
Robert Grimm,
Director, Department of Research and Policy Development.

[FR Doc. 05-3827 Filed 2-25-05; 8:45 am]

BILLING CODE 6050-$$-P